DEPARTMENT OF THE TREASURY

Community Development Financial Institutions Fund

Proposed Collection; Comment Request

ACTION: Notice and request for comments.

SUMMARY: The Department of the Treasury, as part of its continuing effort to reduce paperwork and respondent burden, invites the general public and other Federal agencies to comment on proposed and/or continuing information collections, as required by the Paperwork Reduction Act of 1995, Public Law 104-13 (44 U.S.C. 3506(c)(2)(A)). Currently, the Community Development Financial Institutions Fund (the Fund) within the Department of the Treasury is soliciting comments concerning the Bank Enterprise Award (BEA) Program.

DATES: Written comments should be received on or before April 9, 2001 to be assured of consideration.

ADDRESSES: Direct all comments to Margaret Nilson, Community Development Financial Institutions Fund, U.S. Department of the Treasury, 601 13th Street, NW., Suite 200 South, Washington, DC 20005, Facsimile Number (202) 622-7754.

FOR FURTHER INFORMATION CONTACT: Requests for additional information or copies of the form(s) and instructions should be directed to the Community Development Financial Institutions Fund, U.S. Department of the Treasury, 601 13th Street, NW., Suite 200 South, Washington, DC 20005, or call (202) 622-8662.

SUPPLEMENTARY INFORMATION: Title: Bank Enterprise Award Program.

OMB Number: 1559-0005.

Abstract: The Fund was established by the Community Development Banking and Financial Institutions Act of 1994 (the “Act”) in order to promote economic revitalization and community development by supporting community development financial institutions (CDFIs) and providing incentives for banks and thrifts to increase their lending, investment, and services within distressed communities. The Fund's BEA Program helps achieve this purpose by providing financial incentives for FDIC-insured banks and thrifts to increase their investments in CDFIs or their lending, investments, and services in “Distressed Communities.”

Current Actions: The Fund considering revisions to BEA Program regulations (12 CFR part 1806).

Type of review: Extension with change.

Affected Public: Insured depository institutions.

Estimated Number of Respondents: 200.

Estimated Time Per Respondent: Application: 10; Final Report: 7.

Estimated Total Annual Burden Hours: 3,400.

Requests for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 1834a, 4701, 4704, 4713; 12 CFR part 1806.

Dated: January 31, 2001.
Jeffrey C. Berg,
Acting Director, Community Development Financial Institutions Fund.

[FR Doc. 01-3038 Filed 2-7-01; 8:45 am]

BILLING CODE 4810-70-P